DEPARTMENT OF COMMERCE

National Oceanic and Atmospheric Administration

15 CFR Part 902

50 CFR Part 665

[Docket No. 080206127-91246-03]

RIN 0648-AS71

Fisheries in the Western Pacific; Pelagic Fisheries; Squid Jig Fisheries

AGENCY: National Marine Fisheries Service (NMFS), National Oceanic and Atmospheric Administration (NOAA), Commerce.

ACTION: Final rule; effectiveness of collection-of-information requirements.

SUMMARY: NMFS announces approval by the Office of Management and Budget (OMB) of collection-of-information requirements contained in regulations implementing Amendment 15 to the Fishery Management Plan for Pelagic Fisheries of the Western Pacific Region, relating to squid jig fisheries. The intent of this final rule is to inform the public that the associated permitting and reporting requirements have been approved by OMB.

DATES: This rule is effective on October 5, 2009. The amendments to 50 CFR 665.13, 665.14, 665.21, and 665.22, published at 73 FR 70600 (November 21, 2008), have been approved by OMB and are effective on October 5, 2009.

ADDRESSES: Written comments regarding the burden-hour estimates or other aspects of the collection-of-information requirements contained in this final rule may be submitted to William L. Robinson, Administrator, NMFS Pacific Islands Region (PIR), 1601 Kapiolani Boulevard, Suite 1110, Honolulu, HI 96814-4700, and to David Rostker, OMB, by e-mail to David_Rostker@omb.eop.gov, or fax to 202-395-7285.

FOR FURTHER INFORMATION CONTACT: Brett Wiedoff, Sustainable Fisheries Division, NMFS PIR, 808-944-2272.

SUPPLEMENTARY INFORMATION: This Federal Register document is also accessible at www.gpoaccess.gov/fr/.

A final rule for Amendment 15 was published in the Federal Register on November 21, 2008 (73 FR 70600). The requirements of that final rule, other than the collection-of-information requirements, were effective on December 22, 2008. Because OMB approval of the collection-of-information requirements had not been received by the date that final rule was published, the effective date of the associated permitting and reporting requirements in that rule was delayed. OMB approved the collection-of-information requirements contained in the final rule on August 11, 2009.

Under NOAA Administrative Order 205-11, dated December 17, 1990, the Under Secretary for Oceans and Atmosphere has delegated authority to sign material for publication in the Federal Register to the Assistant Administrator for Fisheries, NOAA.

Classification

This final rule has been determined to be not significant for purposes of Executive Order 12866.

Notwithstanding any other provision of the law, no person is required to respond to, and no person shall be subject to penalty for failure to comply with, a collection of information subject to the requirements of the Paperwork Reduction Act (PRA), unless that collection of information displays a currently valid OMB control number.

This final rule contains new collection-of-information requirements subject to the PRA under OMB Control Number 0648-0589. The public reporting burden for these requirements is estimated to be 0.5 hr per permit applicant, with renewals requiring an additional 0.5 hr annually and approximately 10 min per vessel per fishing day to complete Federal catch reports. These estimates include time for reviewing instructions, searching existing data sources, gathering and maintaining the data needed, and completing and reviewing the collection of information. Send comments regarding these burden estimates or any other aspect of this data collection, including suggestions for reducing the burden, to William L. Robinson (see ADDRESSES), or by e-mail to David_Rostker@omb.eop.gov, or fax to 202-395-7285.

List of Subjects in 15 CFR Part 902

Reporting and recordkeeping requirements.

List of Subjects in 50 CFR Part 665

Administrative practice and procedure, Fisheries, Reporting and recordkeeping requirements.

Dated: August 31, 2009.
Samuel D. Rauch III,
Deputy Assistant Administrator For Regulatory Programs, National Marine Fisheries Service.

For the reasons set out in the preamble, the amendments to 50 CFR 665.13, 665.14, 665.21, and 665.22, published at 73 FR 70600 (November 21, 2008), have been approved by OMB, and 15 CFR part 902 is amended as follows:

15 CFR CHAPTER IX

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, amend the table in paragraph (b), under the entry “50 CFR” by revising the entries for “665.13”, “665.14”, “665.16”, and “665.21(k)” to read as follows:

§ 902.1 OMB control numbers assigned pursuant to the Paperwork Reduction Act.

* * * * *

(b) * * *

CFR part or section where the information collection requirement is located | Current OMB control number the information (All numbers begin with 0648-)
| * * * * *
50 CFR |
| * * * * *
665.13 | -0490, -0586, and -0589
665.14 | -0214, -0586, and -0589
665.16 | -0360, -0586, and -0589
| * * * * *
665.21 (k) | -0490 and -0589
| * * * * *

[FR Doc. E9-21405 Filed 9-3-09; 8:45 am]

BILLING CODE 3510-22-S